DEPARTMENT OF HEALTH AND HUMAN SERVICES

Centers for Disease Control and Prevention

[60Day-01-52]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Youth Risk Behavior Survey (YRBS) Methodological Study—New—National Center for Chronic Disease Prevention and Health Promotion (NCCDPHP), Centers for Disease Control and Prevention, (CDC). The purpose of this request is to obtain OMB clearance to conduct a methodological study in the Spring of 2002 to assess the contributions of question wording, questionnaire context, and appeals for honesty on prevalence and, thereby, to provide methodological guidance for future surveys, especially surveys of adolescents. In 2000, the Office of the Assistant Secretary for Planning and Evaluation (ASPE) commissioned five expert papers written on the topic “Examining Substance Abuse Data Collection Methodologies.” The papers focused on the YRBS, the National Household Survey of Drug Abuse (NHSDA), and Monitoring the Future (MTF). A consensus among the authors was that disparate results across the studies are most likely a product of methodological differences across the surveys. This YRBS Methodological Study is designed to measure the effect of several critical aspects of the data collection protocol: (1) Question wording, (2) questionnaire context, (3) appeals for honesty, and (4) students' perception of their honesty and accuracy. Approximately 100 students in 40 high schools will be given one of four questionnaires. Elucidation of the impact of these factors on prevalence will assist in reducing response effects and improving the quality of the YRBS data.

The total estimated cost to student respondents is $15,750, which is calculated in terms of their time spent in responding to the survey and is based on an assumed minimum wage of $5.25/hour for the 2001-2002 school year. The total estimated cost to school administrators is $1,400 which is calculated in terms of their time spent in recruitment and is based on an assumed average hourly rate of $34. Thus, the total costs to respondents, based on the costs of their time, are $17,150.

Respondents | Number of respondents | Number of responses per respondents | Burden per response (in hrs.) | Total burden hours
High school student | 4,000 | 1 | 45/60 | 3,000
School administrators | 80 | 1 | 30/60 | 40

Dated: June 27, 2001.
Nancy Cheal,
Acting Associate Director for Policy, Planning and Evaluation, Centers for Disease Control and Prevention.

[FR Doc. 01-16735 Filed 7-3-01; 8:45 am]

BILLING CODE 4163-18-P